DEPARTMENT OF LABOR

Employment and Training Administration

[TA-W-60,526; TA-W-60,526A]

Hardwick Knitted Fabrics, Inc., West Warren, Massachusetts and Hardwick Knitted Fabrics, Inc., New York, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 12, 2006, applicable to workers of Hardwick Knitted Fabrics, Inc., West Warren, Massachusetts. The group was certified based on the determination that the workers' firm was a supplier to a primary firm whose workers were certified eligible to apply for adjustment assistance. The notice was published in the Federal Register on December 27, 2006 (71 FR 77800-77802).

The Department reviewed the certification for workers of the subject firm. The workers of the firm located at Hardwick's West Warren, Massachusetts facility produced circular knit fabric. Hardwick Knitted Fabrics, Inc. also had a sales office in New York, New York, but no affiliates or subsidiaries. The New York, New York, sales office has closed and all employees have been separated from employment.

The intent of the Department's certification is to include all workers of Hardwick Knitted Fabrics, Inc. who were secondarily affected by Hardwick's loss of business with a primary firm.

Based on newly acquired information regarding separations at Hardwick's New York sales office, the Department is amending the certification to extend eligibility to apply for worker adjustment assistance and alternative trade adjustment assistance to the workers of Hardwick Knitted Fabrics, Inc., New York, New York, along with the firm's workers in West Warren, Massachusetts.

The amended notice applicable to TA-W-60,526 is hereby issued as follows:

All workers of Hardwick Knitted Fabrics, West Warren, Massachusetts (TA-W-60,526), and Hardwick Knitted Fabrics, Inc., New York, New York (TA-W-60,526A), who became totally or partially separated from employment on or after November 30, 2005 through December 12, 2008, are eligible to apply for adjustment assistance under Section 223 of the Trade Act of 1974, and are also eligible to apply for alternative trade adjustment assistance under Section 246 of the Trade Act.

Signed at Washington, DC, this 24th day of January 2007.
Linda G. Poole,
Certifying Officer, Division of Trade Adjustment Assistance.

[FR Doc. E7-1958 Filed 2-6-07; 8:45 am]

BILLING CODE 4510-FN-P